DEPARTMENT OF TRANSPORTATION

Federal Aviation Administration

Notice of Intent To Rule on Request To Release Airport Property at Monroe Municipal Airport, Monroe, LA

AGENCY: Federal Aviation Administration (FAA), DOT.

ACTION: Notice of request to release Airport property.

SUMMARY: The FAA proposes to rule and invites public comment on the release of land at Monroe Municipal Airport under the provisions of Section 125 of the Wendell H. Ford Aviation Investment Reform Act for the 21st Century (AIR 21).

DATES: Comments must be received on or before March 5, 2001.

ADDRESSES: Comments on this application may be mailed or delivered to the FAA at the following address: Mr. Lacey D. Spriggs, Manager, Federal Aviation Administration, Southwest Region, Airports Division, Louisiana/New Mexico Airports Development Office, ASW-640, Fort Worth, Texas 76193-0640.

In addition, one copy of any comments submitted to the FAA must be mailed or delivered to The Honorable Melvin L. Rambin, Mayor of Monroe, Louisiana, at the following address: City of Monroe, P.O. Box 2738, Monroe, Louisiana 71207-2738.

FOR FURTHER INFORMATION CONTACT: Mr. John Dougherty, Program Manager, Federal Aviation Administration, LA/NM ADO, ASW-640C, 2601 Meacham Blvd., Fort Worth, Texas 76193-0640.

The request to release property may be reviewed in person at this same location.

SUPPLEMENTARY INFORMATION: The FAA invites public comment on the request to release property at the Monroe Municipal Airport under the provisions of the AIR 21.

On December 19, 2000, the FAA determined that the request to release property at Monroe Municipal Airport submitted by the City met the procedural requirements of the Federal Aviation Regulations, Part 155. The FAA may approve the request, in whole or in part, no later than June 1, 2001.

The following is a brief overview of the request:

The City of Monroe requests the release of 15.861 acres of airport property. The release of property will allow for the expansion of an existing business with the Airport Industrial Park. The sale is estimated to provide $275,000 toward the construction of new toilets and elevators in the existing airport terminal facility. These improvements are required to meet the requirements of the Americans with Disability Act.

Any person may inspect the request in person at the FAA office listed above under FOR FURTHER INFORMATION CONTACT.

In addition, any person may, upon request, inspect the application, notice and other documents germane to the application in person at the Monroe Municipal Airport.

Issued in Fort Worth, Texas on January 23, 2001.
Joseph G. Washington,
Acting Manager, Airports Division.

[FR Doc. 01-2856 Filed 2-1-01; 8:45 am]

BILLING CODE 4910-13-M